DEPARTMENT OF ENERGY

Federal Energy Regulatory Commission

[Project No. 803—California]

Pacific Gas and Electric; Notice of Site Visit

September 30, 2004.

On October 27 and October 28, 2004, the Federal Energy Regulatory Commission (Commission) Staff and Pacific Gas and Electric Company, the applicant, will conduct an on-site visit of the DeSabla Project located on Butte Creek and the West Branch of the Feather River, Butte County, California. Under the Integrated Licensing Process (ILP), the Commission conducts its National Environmental Policy Act (NEPA) scoping meeting within 90 days of the filing of the applicant's Notice of Intent and Pre-Application Document. A site visit is typically held in conjunction with that scoping meeting. However, scoping for this project is currently planned for November 17-18, 2004, and access to some project facilities may be limited by weather conditions. For this reason, the Commission will host the site visit earlier in the process. The Commission encourages all interested parties to participate in this site visit to ensure a productive scoping meeting in November 2004.

The site visit is open to the public and resource agencies. Car pooling is encouraged as much as possible but participants may be required to provide their own transportation to most sites. Roads in upper watershed locations are unpaved and may be in poor condition—4 wheel drive is recommended. Portions of the tour may require hiking steep trails in remote locations. Weather may be cold, and possibly wet in October. Please plan accordingly. Tour days may be long, please bring food and water. A tentative schedule is provided below.

Due to the logistics involved in traveling to some locations, there is the need to know the number of attendees in advance. All individuals planning to attend need to call or e-mail Susan O'Brien, FERC Team Leader, at (202) 502-8449 or susan.obrien@ferc.gov, no later than October 21, 2004. During the August 26 relicensing process planning meeting, several parties indicated that attendance on a weekday may not be possible and that a weekend visit to specific sites may be of interest. Parties interested in a weekend visit to specific sites should also contact Susan O'Brien.

Tentative schedule for site visit (times given are in Pacific daylight savings):

Wednesday, October 27, 2004—West Branch Feather River Watershed

7:45 a.m. Individuals arrive at PG&E's Camp 1 Office located on Humbug Road adjacent to DeSabla Forebay. This is approximately 2 miles north of Magalia and Magalia is approximately 3 miles north of Paradise. Camp 1 is approximately 45 minutes from Chico or Oroville. Please arrive on time.

8 a.m. Leave PG&E's Camp 1 Office.

10 a.m. Arrive at Snag Lake—10 minute stay.

11 a.m. Arrive at Butte House Meadows—10 minute stay.

12:30 p.m Arrive at Philbrook Reservoir—1 hour stay, including lunch break.

2:30 p.m. Arrive at Hendricks Head Dam—20 minute stay.

3:45 p.m. Arrive at Toadtown Powerhouse—30 minute stay.

4:45 p.m. Arrive back at Camp 1.

Thursday, October 28, 2004—Butte Creek Watershed

7:45 a.m. Individuals arrive at PG&E's Camp 1 Office. See previous day for directions.

8 a.m. Leave PG&E's Camp 1 Office.

9:30 a.m. Arrive at Butte Head Dam—30 minute stay (this location is remote with very poor, narrow roads, limited parking and will require a short but very steep hike).

11:30 a.m. Arrive at DeSabla Forebay/Camp 1—1 hour stay, including lunch break.

12:30 p.m. Leave Camp 1 for DeSabla Powerhouse and LCDD—Private vehicle are not recommended on this portion of the tour.

2:30 p.m. Arrive back at Camp 1 and leave for Centerville Powerhouse.

4 p.m. Arrive at Centerville Powerhouse—45 minute stay.

4:45 p.m. Tour ends at Centerville Powerhouse.

Magalie R. Salas,
Secretary.

[FR Doc. E4-2505 Filed 10-5-04; 8:45 am]

BILLING CODE 6717-01-P